DEPARTMENT OF COMMERCE

International Trade Administration

[A-583-827]

Static Random Access Memory Semiconductors From Taiwan; Final Results and Partial Rescission of Antidumping Duty Administrative Review

AGENCY: Import Administration, International Trade Administration, Department of Commerce.

ACTION: Notice of final results of antidumping duty administrative review.

SUMMARY: On May 8, 2000, the Department of Commerce published the preliminary results of administrative review of the antidumping duty order on static random access memory semiconductors from Taiwan. The merchandise covered by this order are synchronous, asynchronous, and specialty static random access memory semiconductors from Taiwan, whether assembled or unassembled. This review covers the U.S. sales and/or entries of three manufacturers/exporters. In addition, we are rescinding this review with respect to two companies. The period of review is October 1, 1997, through March 31, 1999, for two of the reviewed companies and October 1, 1998, through March 31, 1999, for the remaining company.

Based on our analysis of the comments received, we have made changes in the margin calculations. Therefore, the final results differ from the preliminary results. The final weighted-average dumping margins for the reviewed firms are listed below in the section entitled “Final Results of the Review.”

EFFECTIVE DATE: September 12, 2000.

FOR FURTHER INFORMATION CONTACT: Irina Itkin or Shawn Thompson, Import Administration, International Trade Administration, U.S. Department of Commerce, Washington, D.C. 20230; telephone: (202) 482-0656 or (202) 482-1776, respectively.

SUPPLEMENTARY INFORMATION:

The Applicable Statute

Unless otherwise indicated, all citations to the Tariff Act of 1930, as amended (the Act), are references to the provisions effective January 1, 1995, the effective date of the amendments made to the Act by the Uruguay Round Agreements Act (URAA). In addition, unless otherwise indicated, all citations to the Department of Commerce's (the Department's) regulations are to 19 CFR part 351 (1999).

Background

This review covers three manufacturers/exporters (i.e., G-Link Technology (G-Link), GSI Technology, Inc. (GSI Technology), ¹ and Winbond Electronics Corporation (Winbond)).

¹ GSI Technology is also known as Giga Semiconductor, Inc.

On May 8, 2000, the Department published in the Federal Register the preliminary results of administrative review of the antidumping duty order on static random access memory semiconductors (SRAMs) from Taiwan. See Static Random Access Memory Semiconductors from Taiwan; Preliminary Results and Partial Rescission of Antidumping Administrative Review, 65 FR 26577 (May 8, 2000).

We invited parties to comment on our preliminary results of review. At the request of certain interested parties, we held a public hearing on August 2, 2000. The Department has conducted this administrative review in accordance with section 751 of the Act.

Scope of Review

The products covered by this review are synchronous, asynchronous, and specialty SRAMs from Taiwan, whether assembled or unassembled. Assembled SRAMs include all package types. Unassembled SRAMs include processed wafers or die, uncut die and cut die. Processed wafers produced in Taiwan, but packaged, or assembled into memory modules, in a third country, are included in the scope; processed wafers produced in a third country and assembled or packaged in Taiwan are not included in the scope. The scope of this review includes modules containing SRAMs. Such modules include single in-line processing modules, single in-line memory modules, dual in-line memory modules, memory cards, or other collections of SRAMs, whether unmounted or mounted on a circuit board. The scope of this review does not include SRAMs that are physically integrated with other components of a motherboard in such a manner as to constitute one inseparable amalgam (i.e., SRAMs soldered onto motherboards). The SRAMs within the scope of this review are currently classifiable under subheadings 8542.13.8037 through 8542.13.8049, 8473.30.10 through 8473.30.90, 8542.13.8005, and 8542.14.8004 of the Harmonized Tariff Schedule of the United States (HTSUS). Although the HTSUS subheadings are provided for convenience and customs purposes, the written description of the scope of this proceeding is dispositive.

Period of Review

The POR is October 1, 1997, through March 31, 1999, for G-Link and Winbond. Because GSI Technology was a respondent in the 1997-1998 new shipper review on SRAMs, the POR for our administrative review of its U.S. sales is October 1, 1998, through March 31, 1999.

Partial Rescission of Review

As noted in the preliminary results, in June and July 1999, respectively, two manufacturers/exporters of subject merchandise to the United States, Alliance Semiconductor (Alliance) and Galvantech, Inc. (Galvantech), withdrew their requests for administrative review. No other interested party requested a review of sales of merchandise produced or exported by either Alliance or Galvantech during the POR. Therefore, in accordance with 19 CFR 351.213(d)(1) and consistent with our practice, we are rescinding our review with respect to Alliance and Galvantech.

Analysis of Comments Received

All issues raised in the case briefs by parties to this administrative review are addressed in the “Issues and Decision Memorandum” (Decision Memo) from Richard W. Moreland, Deputy Assistant Secretary, Import Administration, to Troy H. Cribb, Acting Assistant Secretary for Import Administration, dated September 5, 2000, which is hereby adopted by this notice. A list of the issues which parties have raised and to which we have responded, all of which are in the Decision Memo, is attached to this notice as an Appendix. Parties can find a complete discussion of all issues raised in this review and the corresponding recommendations in this public memorandum, which is on file in the Central Records Unit, room B-099, of the main Department building.

In addition, a complete version of the Decision Memo can be accessed directly on the Web at www.ia.ita.doc.gov. The paper copy and electronic version of the Decision Memo are identical in content.

Changes Since the Preliminary Results

Based on our analysis of comments received, we have made changes in the margin calculations for two of the three companies under review. These changes are discussed in the relevant sections of the Decision Memo.

Final Results of Review

We determine that the following weighted-average margin percentages exist for the period October 1, 1997, through March 31, 1999 (for G-Link and Winbond) and the period October 1, 1998, through March 31, 1999 (for GSI Technology):

Manufacturer/exporter | Percent margin
G-Link Technology | 32.12
GSI Technology, Inc/Giga Semiconductor Inc | 33.85
Winbond Electronics Corp | 0.67

The Department shall determine, and Customs shall assess, antidumping duties on all appropriate entries. In accordance with 19 CFR 351.212(b), we have calculated exporter/importer-specific assessment rates. We divided the total dumping margins for the reviewed sales by their total entered value for each importer. We will direct Customs to assess the resulting percentage margins against the entered Customs values for the subject merchandise on each of that importer's entries under the relevant order during the review period.

Cash Deposit Requirements

The following deposit requirements will be effective upon publication of this notice of final results of administrative review for all shipments of SRAMs from Taiwan entered, or withdrawn from warehouse, for consumption on or after the date of publication, as provided by section 751(a)(1) of the Act: (1) the cash deposit rates for the reviewed firms will be the rates shown above; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) the cash deposit rate for all other manufacturers or exporters will continue to be 41.75. This rate is the “All Others” rate from the LTFV investigation.

These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (APO) of their responsibility concerning the return or destruction of proprietary information disclosed under APO in accordance with 19 CFR 351.305 or conversion to judicial protective order is hereby requested. Failure to comply with the regulations and terms of an APO is a violation which is subject to sanction.

We are issuing and publishing this determination and notice in accordance with sections 751(a)(1) and 777(i)(1) of the Act.

Dated: September 5, 2000.
Troy H. Cribb,
Acting Assistant Secretary for Import Administration.

Appendix—Issues in Decision Memo

Comments

1. Facts Available

2. Date of Sale for Certain Transactions Related to a Joint-Venture Agreement

3. Unreported Cost Data

4. Ordinary Course of Trade

5. Winbond's Cash Deposit Rate

6. Yields

7. Variances

8. Foreign Exchange Losses Related to Cash Transactions

9. Research and Development Costs

10. Products Produced But Not Sold During the Review Period

11. Bonuses

12. Clerical Errors in Winbond's Calculations

13. Constructed Export Price Offset

[FR Doc. 00-23391 Filed 9-11-00; 8:45 am]

BILLING CODE 3510-DS-P